DEPARTMENT OF COMMERCE

National Oceanic and Atmospheric Administration

[I.D. 051002H]

North Pacific Fishery Management Council; Public Meetings

AGENCY: National Marine Fisheries Service (NMFS), National Oceanic and Atmospheric Administration (NOAA), Commerce.

ACTION: Notice of meetings of the North Pacific Fishery Management Council (Council) and its advisory committees.

SUMMARY: The North Pacific Fishery Management Council (Council) and its advisory committees will hold public meetings June 3-12, 2002, in Dutch Harbor, AK.

DATES: The Council’s Advisory Panel will begin at 8 a.m., Monday, June 3, and continue through Saturday, June 8, 2002. The Scientific and Statistical Committee will begin at 8 a.m. on Monday, June 3, and continue through Wednesday, June 5, 2002.

The Council will begin its plenary session at 8 a.m. on Wednesday, June 5, continuing through noon Wednesday, June 12. All meetings are open to the public except executive sessions.

ADDRESSES: The Grand Aleutian Hotel, 498 Salmon Way, Dutch Harbor, AK 99692.

Council address: North Pacific Fishery Management Council, 605 W. 4th Ave., Suite 306, Anchorage, AK 99501-2252.

FOR FURTHER INFORMATION CONTACT: Council staff, telephone: 907-271-2809.

SUPPLEMENTARY INFORMATION: Council Plenary Session: The agenda for the Council’s plenary session will include the following issues. The Council may take appropriate action on any of the issues identified.

1. Reports:

(a) Executive Director's Report.

(b) State Fisheries Report by Alaska Dept. of Fish and Game.

(c) NMFS Management Report.

(d) NMFS & U.S. Coast Guard Enforcement Surveillance reports.

2. Gulf of Alaska Groundfish Rationalization: Receive committee report and provide direction, as necessary.

3. Essential Fish Habitat: Receive committee report and provide direction, as necessary.

4. Bering Sea/Aleutian Islands (BSAI) Crab Rationalization:

(a) Identify preferred alternative for rationalization.

(b) Finalize alternatives for the Environmental Impact Statement for the BSAI King and Tanner Crab Fishery Management Plan.

5. Community Development Quotas: Final action on alternatives for program policy changes.

6. Draft Programmatic Groundfish Supplemental Environmental Impact Statement: finalize alternatives for analysis.

7. Steller Sea Lion Issues: final action on two proposed amendments.

8. American Fisheries Act:

(a) Initial review of improved retention/utilization adjustments.

(b) Final action on single geographic location amendment.

(c) Review committee report on pollock bycatch measures, if available, and provide further direction.

9. Research Priorities: review and recommend research priorities.

10. Groundfish Management:

(a) Initial review of proposed changes to the annual harvest specification process.

(b) Review workplan and provide direction for an analysis of differential gear impacts.

(c) Final action on alternatives to allocate BSAI Pacific cod harvests between pot catcher processors and pot catcher vessels.

11. Review staff tasking and provide direction.

12. Discuss annual management cycle. Scientific and Statistical Committee (SSC): The SSC agenda will include the following issues:

1. Research priorities (Item #9 on the Council agenda)

2. Harvest specification process (Item #10(a) on the Council agenda)

3. Draft Groundfish Programmatic SEIS (Item #6 on the Council agenda)

4. Review data collection information.

5. Review impacts methodology. Advisory Panel: The Advisory Panel will address the same agenda issues as the Council, with the exception of the Reports under Item #1 of the Council agenda.

Although non-emergency issues not contained in this agenda may come before these groups for discussion, in accordance with the Magnuson-Stevens Fishery Conservation and Management Act, these issues may not be the subject of formal action during the meeting. Action will be restricted to those issues specifically identified in the agenda listed in this notice and any issues arising after publication of this notice that require emergency action under section 305(c) of the Magnuson-Stevens Act, provided the public has been notified of the Council’s intent to take final action to address the emergency.

Special Accommodations

These meetings are physically accessible to people with disabilities. Requests for sign language interpretation or other auxiliary aids should be directed to Helen Allen at 907-271-2809 at least 7 working days prior to the meeting date.

Dated: May 13, 2002.
Richard W. Surdi,
Acting Director, Office of Sustainable Fisheries, National Marine Fisheries Service.

[FR Doc. 02-12477 Filed 5-16-02; 8:45 am]

BILLING CODE 3510-22-S